DEPARTMENT OF THE INTERIOR

National Park Service

36 CFR Part 7

Negotiated Rulemaking Advisory Committee for Off-Road Vehicle Management for Cape Hatteras National Seashore

AGENCY: National Park Service (NPS), Interior.

ACTION: Notice of Sixth, Seventh, Eighth and Ninth Meetings.

SUMMARY: Notice is hereby given, in accordance with the Federal Advisory Committee Act (Pub. L. 92-463, 86 Stat. 770, 5 U.S.C. App 1, section 10), of the sixth, seventh, eighth and ninth meetings of the Negotiated Rulemaking Advisory Committee for Off-Road Vehicle Management at Cape Hatteras National Seashore. (See DATES section.)

DATES: The Committee will hold its sixth meeting on September 8-9, 2008, from 8:30 a.m. to 5:30 p.m. on September 8, and from 8:30 a.m. to 4 p.m. on September 9. The meetings on both days will be held at the Avon Fire Hall, 40159 Harbor Drive, Avon, North Carolina 27915. The Committee will hold its seventh meeting on October 22-23, 2008, from 8:30 a.m. to 5:30 p.m. on October 22, and from 8:30 a.m. to 4 p.m. on October 23. The meetings on both days will be held at the Hatteras Village Civic Center, 56658 Highway 12, Hatteras, NC 27943. The Committee will hold its eighth meeting on November 14-15, 2008, from 8:30 a.m. to 5:30 p.m. on November 14, and from 8:30 a.m. to 4 p.m. on November 15. The meetings on both days will be held at the Clarion Hotel, 1601 South Virginia Dare Trail, Kill Devil Hills, NC 27948. The Committee will hold its ninth meeting on December 11-12, 2008, from 8:30 a.m. to 5:30 p.m. on December 11, and from 8:30 a.m. to 4 p.m. on December 12. The meetings on both days will be held at the Avon Fire Hall, 40159 Harbor Drive, Avon, North Carolina 27915.

These, and any subsequent meetings, will be held for the following reason: To work with the National Park Service to assist in potentially developing special regulations for ORV management at Cape Hatteras National Seashore.

The proposed agenda for the sixth, seventh, eighth and ninth meetings of the Committee may contain the following items: Approval of Meeting Summary from Last Meeting, Subcommittee and Members' Updates since Last Meeting, Alternatives Discussions, NEPA Update, and Public Comment. However, the Committee may modify its agenda during the course of its work. The meetings are open to the public. Interested persons may provide brief oral/written comments to the Committee during the public comment period of the meetings each day before the lunch break or file written comments with the Park Superintendent.

FOR FURTHER INFORMATION CONTACT: Mike Murray, Superintendent, Cape Hatteras National Seashore, 1401 National Park Drive, Manteo, North Carolina 27954, (252) 473-2111, ext. 148.

SUPPLEMENTARY INFORMATION: The Committee's function is to assist directly in the development of special regulations for management of off-road vehicles (ORVs) at Cape Hatteras National Seashore (Seashore). Executive Order 11644, as amended by Executive Order 11989, requires certain Federal agencies to publish regulations that provide for administrative designation of the specific areas and trails on which ORV use may be permitted. In response, the NPS published a general regulation at 36 CFR 4.10, which provides that each park that designates routes and areas for ORV use must do so by promulgating a special regulation specific to that park. It also provides that the designation of routes and areas shall comply with Executive Order 11644, and 36 CFR Sec. 1.5 regarding closures. Members of the Committee will negotiate to reach consensus on concepts and language to be used as the basis for a proposed special regulation, to be published by the NPS in the Federal Register, governing ORV use at the Seashore. The duties of the Committee are solely advisory.

Dated: June 9, 2008.
Michael B. Murray,
Superintendent, Cape Hatteras National Seashore.

[FR Doc. E8-15418 Filed 7-7-08; 8:45 am]

BILLING CODE 4310-X6-P